DEPARTMENT OF HOUSING AND URBAN DEVELOPMENT

[Docket No. FR-5972-FA-01]

Announcement of Funding Awards; Capital Fund Emergency Safety and Security Grants; Fiscal Year 2016

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Emergency Safety and Security funds with PIH Notice 2016-03 (Notice), which was issued March 9, 2016. Additionally, Public Housing Authorities (PHAs) were notified of funds availability via electronic mail and a posting to the HUD Web site. PHAs were funded in accordance with the terms of the Notice. This announcement contains the consolidated names and addresses of this year's award recipients under the Capital Fund Emergency Safety and Security grant program.

FOR FURTHER INFORMATION CONTACT: For questions concerning the Emergency Safety and Security awards, contact Ivan Pour, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Emergency Safety and Security program provides grants to PHAs for physical safety and security measures necessary to address crime and drug-related emergencies. More specifically, in accordance with Section 9 of the United States Housing Act of 1937 (42 U.S.C. 1437g) (1937 Act), and The Consolidated and Further Continuing Appropriations Act, 2016 (Pub. L. 114-113), (FY 2016 appropriations), Congress appropriated funding to provide assistance to “public housing agencies for emergency capital needs including safety and security measures necessary to address crime and drug-related activity as well as needs resulting from unforeseen or unpreventable emergencies and natural disasters excluding Presidentially declared disasters occurring in fiscal year [2016].”

The FY 2016 awards in this Announcement were evaluated for funding based on the criteria in the Notice. These awards are funded from the set-aside in the FY 2016 appropriations. In accordance with Section 102 (a)(4)(C) of the Department of Housing and Urban Development Reform Act of 1989 (103 Stat.1987, 42 U.S.C. 3545), the Department is publishing the names, addresses, and amounts of the 24 awards made under the set aside in Appendix A to this document.

Dated: August 14, 2016.
Lourdes Castro Ramírez,
Principal Deputy Assistant Secretary for Public and Indian Housing.

Appendix A

Capital Fund Emergency Safety and Security Program FY2016 Awards

Name/Address of applicant | Amount funded | Project description
HA City of Fort Payne, 203 13th Street NW., Fort Payne, AL 35967-3129 | $140,120 | Security Cameras.
The Housing Authority of the City of Huntsville, 200 Washington Street NE., Huntsville, AL 35804 | 247,367 | Security Cameras, Lighting, Locks, and Security Storm Doors.
Cottonwood Housing Authority, P.O. Box 356, Cottonwood, AL 36320-0356 | 65,000 | Security Camera Systems, Locks, and Lighting.
HA Opp, 800 Barnes St., Opp, AL 36467-3258 | 250,000 | Security Cameras, Lighting, Fencing and Doors.
HA Bessemer, 1515 Fairfax Ave., Bessemer, AL 35020-6648 | 247,250 | Security Cameras and Lighting.
HA Tallassee, 904 Hickory Street, Tallassee, AL 36078-1719 | 250,000 | Security Cameras, Fencing, and Lighting.
Housing Authority of the County of San Bernardino, 715 E. Brier Dr., San Bernardino, CA 92408-2841 | 225,000 | Security Cameras, Security Cameras, Fencing, and Lighting.
Housing Authority of City of East St. Louis, 700 N. 20th St., East St. Louis, IL 62205 | 250,000 | Security Camera System and Lighting.
The Housing Authority of the County of Hardin, P.O. Box 322, Elizabethtown, IL 62931-0322 | 250,000 | Security Cameras.
The Housing Authority of the City of Evansville, 402 Court St., Suite B, Evansville, IN 47708-1340 | 250,000 | Security Cameras, Doors, and Lighting.
The Housing Authority of the City of Elkhart, 1396 Benham Ave., Elkhart, IN 46516-3341 | 250,000 | Security Cameras.
The Housing Authority of Nicholasville, 601 Broadway, Nicholasville, KY 40356-1417 | 192,000 | Security Cameras, Fencing, Lighting, and Doors.
Housing Authority of the City of Alexandria, 2558 Loblolly Lane, Alexandria, LA 71306-1219 | 178,625 | Security Cameras and Lighting.
The Havre De Grace Housing Authority, 101 Stansbury Court, Havre De Grace, MD 21078-2641 | 246,000 | Security Cameras, Lighting, and Doors.
The Marquette Housing Commission, 316 Pine Street, Marquette, MI 49855-4250 | 100,500 | Security Cameras, Lighting, and Locks.
The HRA of Two Harbors, 505 1st Avenue, Two Harbors, MN 55616-1553 | 55,000 | Security Cameras, entry system, and lighting at the Bayview Terrace to improve security and monitoring.
The Housing Authority of the City of Forest, 518 North 4th Avenue, Forest, MS 39074-3627 | 230,000 | Security Cameras, Entry System, Fencing, and Lighting.
The Plainfield Housing Authority, 510 East Front Street, Plainfield, NJ 07060-1450 | 250,000 | Security Cameras, Doors, and Lighting.
The Town of Oyster Bay Housing Authority, 115 Central Park Road, Plainview, NY 11803-2027 | 248,569 | Security Cameras.
The Peekskill Housing Authority, 807 Main Street, Peekskill, NY 10566-2040 | 250,000 | Security Cameras, Security Alarm System, Doors, and Lighting.
The Harrisburg Housing Authority, 351 Chestnut Street, Harrisburg, PA 17101-2756 | 250,000 | Security Cameras and Lighting.
The Housing Authority of the County of Luzerne, 250 First Ave., Kingston, PA 18704-5808 | 76,000 | Security Cameras.
The Covington Housing Authority, 1701 Shoaf Street, Covington, TN 38019-3342 | 250,000 | Security Cameras.
Austin Housing Authority, 1124 S. IH35, Austin, TX 78704 | 250,000 | Security Camera System, Lighting, and Fencing.

[FR Doc. 2016-19860 Filed 8-18-16; 8:45 am]

BILLING CODE 4210-67-P